DEPARTMENT OF TRANSPORTATION

Office of the Secretary

49 CFR Part 1

[OST Docket No.1999-6189; Amendment 1-302]

Organization and Delegation of Powers and Duties Delegations to the Maritime Administrator

AGENCY: Office of the Secretary, DOT.

ACTION: Final rule.

SUMMARY: The Secretary of Transportation (Secretary) is delegating to the Maritime Administrator his authority to appoint special police and enforce laws for the protection of property and persons at the United States Merchant Marine Academy located in Kings Point, New York. The authorities relating to the protection of Federal property are vested in the Secretary of Transportation by a March 2000 delegation from the Administrator of General Services. The Act of June 1, 1948, P.L. 80-566, 62 Stat. 281, 40 U.S.C. 318-318c and the Federal Property and Administrative Services Act of 1949, as amended, 63 Stat. 377, provides the Administrator of General Services the authority relating to the protection of Federal property.

EFFECTIVE DATE: May 26, 2000.

FOR FURTHER INFORMATION CONTACT: Richard Weaver, Chief, Division of Management and Organization, Maritime Administration, MAR-318, Room 7301, 400 Seventh Street, SW., Washington, DC 20590, Phone: (202) 366-2811; or Blane Workie, Office of General Counsel (C-50), Department of Transportation, Room 10424, 400 Seventh Street, SW., Washington, DC 20590, Phone: (202) 366-9314.

SUPPLEMENTARY INFORMATION: The Secretary of Transportation is delegating to the Maritime Administrator his authority relating to the protection of property and persons at the United States Merchant Marine Academy located in Kings Point, New York. The Secretary of Transportation obtained the authority to enforce laws for the protection of property and persons at the United States Merchant Marine Academy from the Administrator of General Services on March 23, 2000.

Previously, the Administrator of General Services had delegated this authority to the Secretary of Transportation who redelegated the authority to the Maritime Administrator. The delegation expired on May 1, 2000. As a result, this delegation of authority from the Secretary of Transportation to the Maritime Administrator relating to the protection of property and persons at the United States Merchant Marine Academy is necessary to ensure the continued authority of the Maritime Administrator to appoint uniformed personnel as special police, establish the rules and regulations governing conduct on the affected property, and execute agreements with other Federal, State, or local authorities. The Maritime Administration has previously had the responsibility for the Academy and related property, and currently has the experience and requisite expertise to promptly effect the actions prescribed by the statutes.

This amendment revises 49 CFR 1.66(q) to reflect the Secretary of Transportation's delegation of his authority relating to the protection of the Merchant Academy to the Maritime Administrator for an indefinite period of time. Since this amendment relates to departmental organization, procedure and practice, notice and comment are unnecessary under 5 U.S.C. 553(b). Further, since the amendment expedites the Maritime Administration's ability to meet the statutory intent of the applicable laws and regulations covered by this delegation, the Secretary finds good cause under 5 U.S.C. 553(d)(3) for the final rule to be effective on the date of publication in the Federal Register.

List of Subjects in 49 CFR Part 1

Authority delegations (Government agencies), Organization and functions (Government agencies).

In consideration of the foregoing, Part 1 of Title 49, Code of Federal Regulations, is amended, effective upon publication, to read as follows:

PART 1—[AMENDED]

1. The authority citation for part 1 continues to read as follows:

Authority: 49 U.S.C. 322; Public Law 101-552, 28 U.S.C. 2672; 31 U.S.C. 3711(a)(2).

2. Section 1.66 is amended by revising paragraph (q) is amended to read as follows:

§ 1.66 Delegations to Maritime Administrator.

* * * * *

(q) Exercise the authority vested in the Administrator of General Services by the Act of June 1, 1948, Public Law 80-566, 62 Stat. 281, 40 U.S.C. 318-318c and the Federal Property and Administrative Services Act of 1949, as amended, 63 Stat. 377, and delegated to the Secretary of Transportation by the Administrator of General Services on March 23, 2000, relating to the enforcement of laws for the protection of property and persons at the United States Merchant Marine Academy, located in Kings Point, New York. This may be accomplished through appointment of uniformed personnel as special police, establishment of rules and regulations governing conduct on the affected property, and execution of agreements with other Federal, State, or local authorities.

* * * * *

Issued at Washington, DC, this 18th day of May, 2000.
Rodney E. Slater,
Secretary of Transportation.

[FR Doc. 00-13270 Filed 5-25-00; 8:45 am]

BILLING CODE 4910-62-P